COMMITTEE FOR THE IMPLEMENTATION OF TEXTILE AGREEMENTS

Amendment of Coverage of Import Limit and Visa and Certification Requirements for a Certain Part-Category Produced or Manufactured in Malaysia

May 9, 2002.

AGENCY: Committee for the Implementation of Textile Agreements (CITA).

ACTION: Issuing a directive to the Commissioner of Customs amending coverage for an import limit and visa and certification requirements.

EFFECTIVE DATE: May 15, 2002.

FOR FURTHER INFORMATION CONTACT: Keith Daly, International Trade Specialist, Office of Textiles and Apparel, U.S. Department of Commerce, (202) 482-3400.

SUPPLEMENTARY INFORMATION:

Authority: Section 204 of the Agricultural Act of 1956, as amended (7 U.S.C. 1854); Executive Order 11651 of March 3, 1972, as amended.

The Harmonized Tariff Schedule of the United States (HTS) has been amended, and goods formerly classified in HTS heading 6110.10.2070 are now classified in HTS heading 6110.12.2070. The Uruguay Round Agreement on Textiles and Clothing and the U.S.-Malaysia export visa arrangement both utilize the HTS and include such goods within their scope. To facilitate implementation of these agreements, CITA is directing the Commissioner of Customs to amend monitoring and import control directives and visa and certification requirement directives for Malaysia to account for this change, amending part-Category 438-O.

In the letter published below, the Chairman of CITA directs the Commissioner of Customs to amend monitoring, import control, and visa and certification requirements with respect to part-Category 438-O.

James C. Leonard III,
Chairman, Committee for the Implementation of Textile Agreements.

Committee for the Implementation of Textile Agreements

May 9, 2002.

Commissioner of Customs,

Department of the Treasury, Washington, DC 20229.

Dear Commissioner: This directive amends, but does not cancel, the monitoring and import control directives, and all visa and certification requirement directives for Malaysia, issued to you by the Chairman, Committee for the Implementation of Textile Agreements, which include wool textile products in part-Category 438-O produced or manufactured in Malaysia and imported into the United States on and after May 15, 2002, regardless of the date of export.

Effective on May 15, 2002, you are directed to make the change shown below in the aforementioned directives for products entered in the United States for consumption or withdrawn from warehouse for consumption on and after May 15, 2002 for part-Category 438-O, regardless of the date of export:

Category | HTS change
438-O | Delete 6110.10.2070
| Replace with 6110.12.2070

The Committee for the Implementation of Textile Agreements has determined that this action falls within the foreign affairs exception to the rulemaking provisions of 5 U.S.C.553(a)(1).

Sincerely,

James C. Leonard III

Chairman, Committee for the Implementation of Textile Agreements.

[FR Doc.02-12103 Filed 5-14-02; 8:45 am]

BILLING CODE 3510-DR-S